ENVIRONMENTAL PROTECTION AGENCY

[ER-FRL-6683-8]

Environmental Impacts Statements; Notice of Availability

Responsible Agency: Office of Federal Activities, General Information (202) 564-7167 or http://www.epa.gov/compliance/nepa/.

Weekly receipt of Environmental Impact Statements

Filed 01/29/2007 through 02/02/2007

Pursuant to 40 CFR 1506.9.

EIS No. 20070027, final EIS, FRC, CA, Lake Elsinore Advanced Pumped Storage (LEAPS) Project, Construction and Operation, Application for Hydroelectric License, Special-Use-Permit, FERC No. 11858, City of Lake Elsinore, Riverside County, CA, Wait Period Ends: 03/12/2007, Contact: Andy Black 1-866-208-3372

EIS No. 20070028, draft EIS, COE, CA, PROGRAMMATIC—Los Angeles River Revitalization Master Plan (LARRMP) Project, Implementation, Improving Natural Habitat, Water Quality, Recreation, Economic Values and Open Space, Owensmoth Avenue in Canoga Park (at the Confluence of Bell Creek and Arroyo Calabasas) and continues down stream to Washington Boulevard near the northern boundary of the City of Vernon, City of Los Angeles, Los Angeles County, CA, Comment Period Ends: 03/26/2007, Contact: Catherine Shuman 213-452-3797

EIS No. 20070029, final EIS, GSA, ME, Madawaska Border Station Project, Replacement of Existing Border Station in Madawaska, Selected the Build Alternative, International Border between United States and Canada, Aroostook County, ME, Wait Period Ends: 03/12/2007, Contact: David M. Drevinsky 617-565-6596

EIS No. 20070030, draft EIS, IBR, ND, Red River Valley Water Supply Project, Development and Delivery of a Bulk Water Supply to meet Long-Term Water Needs of the Red River Valley, Implementation, ND and MN, Comment Period Ends: 03/26/2007, Contact: Signe Snortland 701-250-4242 Ext 3619

EIS No. 20070031, final EIS, AFS, CA, Lake Davis Pike Eradication Project, To Eradicate Pike and Re-Establish Trout Fishery in the Tributaries, Special-Use-Permit, Plumas National Forest, Plumas County, CA, Wait Period Ends: 03/12/2007, Contact: Angela Dillingham 530-283-7761

EIS No. 20070032, final EIS, AFS, CA, Commercial Pack Station and Pack Stock Outfitter/ Guide Permit Issuance, Implementation, Special-Use-Permit to Twelve Pack Station and Two Outfitter/Guides, Inyo National Forest, CA, Wait Period Ends: 03/12/2007 Contact: Erin Lutrick 760-873-2545

EIS No. 20070033, draft EIS, FTA, 00, Access to the Region's Core Project, To Increase Trans-Hudson Commuter Rail Capacity, Improve System Safety and Reliability between Secaucus Junction Station in NJ and midtown Manhattan, Funding, Hudson County, NJ and New York County, NY, Comment Period Ends: 04/10/2007, Contact: James Goveia 212-668-2170

EIS No. 20070034, final EIS, SFW, WY, Bison and Elk Management Plan, Implementation, National Elk Refuge/Grand Teton National Park/John D. Rockefeller, Jr. Memorial Parkway, Teton County, WY, Wait Period Ends: 03/12/2007, Contact: Laurie Shannon 303-236-4317

EIS No. 20070035, final EIS, RUS, MT, Highwood Generating Station, 250-megawatt Coal Fired Power Plant and 6MW of Wind Generation at a Site near Great Falls,Construction and Operation, Licenses Permit, U.S. Army COE Section 10 Permit, Cascade County, MT, Wait Period Ends: 03/12/2007, Contact: Richard Fristik 202-720-5093

EIS No. 20070036, final EIS, AFS, NV, Heavenly Mountain Resort Master Plan Amendment 2005 (MPA 05), Improve and Enhance the Resorts Over Winter and Summer Recreation Opportunities, Special-Use-Permit, Lake Tahoe Basin, El Dorado County, CA and Douglas County, NV, Wait Period Ends: 03/12/2007, Contact: Matt Dickerson 530-543-2769

EIS No. 20070037, final EIS, FHW, MT, U.S. Highway 89, Improvements, from Browning to Hudson Bay Divide, Endangered Species Act, NPDES Permit and U.S. Army COE Section 404 Permit, Glacier County, MT, Wait Period Ends: 03/12/2007, Contact: Bob Seliskar 406-449-5302 Ext 244

Dated: February 6, 2007.
Robert W. Hargrove,
Director, NEPA Compliance Division, Office of Federal Activities.

[FR Doc. E7-2184 Filed 2-8-07; 8:45 am]

BILLING CODE 6560-50-P